DEPARTMENT OF COMMERCE

International Trade Administration

[A-549-807]

Certain Carbon Steel Butt-Weld Pipe Fittings from Thailand: Extension of Time Limit for Final Results of Antidumping Duty Administrative Review

AGENCY: Import Administration, International Trade Administration, Department of Commerce.

ACTION: Notice of Extension of Time Limit for Final Results of Antidumping Duty Administrative Review.

EFFECTIVE DATE: December 3, 2002.

FOR FURTHER INFORMATION CONTACT: Zev Primor at (202) 482-4114 or Tom Futtner at (202) 482-3814, Office of AD/CVD Enforcement 4, Group II, Import Administration, International Trade Administration, U.S. Department of Commerce, 14th Street and Constitution Ave., NW, Washington, DC 20230.

SUPPLEMENTARY INFORMATION:

TIME LIMITS:

Statutory Time Limits

Section 751(a)(3)(A) of the Tariff Act of 1930, as amended (the Act), requires the Department of Commerce (the Department) to make a preliminary determination within 245 days after the last day of the anniversary month of an order for which a review is requested and a final determination within 120 days after the date on which the preliminary determination is published. However, if it is not practicable to complete the review within these time periods, section 751(a)(3)(A) of the Act allows the Department to extend the time limit for the preliminary determination to a maximum of 365 days and for the final determination to 180 days (or 300 days if the Department does not extend the time limit for the preliminary determination) from the date of publication of the preliminary determination.

Background

On October 1, 2001, the Department published a notice of initiation of administrative review of the antidumping duty order on certain carbon steel butt-weld pipe fittings from Thailand, covering the period July 1, 2000 through June 30, 2001 (66 FR 49924). On August 7, 2002 (67 FR 51178), we published the preliminary results of review. In our notice of preliminary results, we stated our intention to issue the final results of this review no later than 120 days after the date of publication of the preliminary results, December 5, 2002.

Extension of Time Limit for Final Results of Review

Due to the complexity of the issues raised in this segment of the review, we determine that it is not practicable to complete the final results of this review within the original time limit. Therefore, the Department is extending the time limit for completion of the final results until no later than February 3, 2003. For details, see Decision Memorandum from Holly Kuga to Bernard Carreau, dated concurrently with this notice, which is on file in the Central Records Unit, Room B-099 of the main Commerce building.

This extension is in accordance with section 751(a)(3)(A) of the Act.

Dated: November 26, 2002.
Gary Taverman,
Acting Deputy Assistant Secretary for Import Administration, Group II.

[FR Doc. 02-30623 Filed 12-2-02; 8:45 am]

BILLING CODE 3510-DS-S